DEPARTMENT OF COMMERCE

National Oceanic and Atmospheric Administration

[I.D. 051403D]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Gulf Council) and South Atlantic Fishery Management Council (South Atlantic Council) in cooperation with the Florida Marine Research Institute (FMRI) of the Florida Fish and Wildlife Conservation Commission (FFWCC) and the Southeast Fisheries Science Center of the National Marine Fisheries Service (NOAA Fisheries) will convene a yellowtail snapper Stock Assessment Workshop as part of the 2003 Southeast Data Assessment and Review (SEDAR) process. The workshop will be held from Monday June 9, 2003 through Friday, June 13, 2003.

DATES: The workshop will be held from Monday June 9, 2003 through Friday, June 13, 2003.

ADDRESSES: The meeting will be held at the Florida Marine Research Institute, 100 Eighth Avenue, Southeast, St. Petersburg, FL 33701-5095; telephone: 727-896-8626.

Council address: Gulf of Mexico Fishery Management Council, 3018 U.S. Highway 301 North, Suite 1000, Tampa, FL 33619.

FOR FURTHER INFORMATION CONTACT: Mr. Phil Steele, NMFS Southeast Regional Office, 9721 North Executive Center Drive, St. Petersburg, FL 33702; telephone: 727-570-5305.

SUPPLEMENTARY INFORMATION: The Stock Assessment Workshop will focus on the single yellowtail snapper stock off the U.S. mainland that falls within the jurisdictional boundaries of the Gulf Council, South Atlantic Council, and FFWCC. Yellowtail snapper in the Caribbean appear to be a different population based on preliminary genetic analyses, and will not be included in this assessment.

The Stock Assessment Workshop is the second step in the three-part SEDAR process. The first step was the Data Review Workshop (held March 3-7, 2003) and involved the assembly and review of available fishery data, life history information, analytical techniques and models for the stock assessment. The second step is the Stock Assessment Workshop, where data sets from the Data Review Workshop are used with population dynamics modeling techniques to determine the status of stocks. The third step of SEDAR is the Stock Assessment Review Workshop (to be scheduled in July, 2003), where the stock assessment is reviewed by an independent peer review panel.

The Stock Assessment Workshop will convene a select group of scientists, industry representatives, and other knowledgeable persons to review the available data and the yellowtail snapper stock assessment presented by FFWCC biologists. The workshop participants will prepare a written Workshop report that provides an overview of the analyses, general findings, and recommendations of the workshop. As part of the Stock Assessment Workshop, the Gulf Council will convene a meeting of its Reef Fish Stock Assessment Panel (RFSAP). The RFSAP is composed of biologists who are trained in the specialized field of population dynamics. Based on its review of the yellowtail snapper stock assessment, the RFSAP may recommend whether to declare the stocks overfished and/or undergoing overfishing, and may recommend a range of acceptable biological catch (ABC) for 2004. The RFSAP may also recommend management measures to achieve the ABC. The RFSAP may also make recommendations pertaining to its role in future SEDAR meetings.

The RFSAP will hold it's own session in conjunction with the Stock Assessment Workshop to review the following issues: (1) role of the RFSAP in the SEDAR process; (2) review of alternatives for revision of the rebuilding plan for Gulf red snapper, and; (3) new information on Goliath grouper if that data is available.

Both the Stock Assessment Workshop report and the conclusions of the RFSAP will be reviewed by the Stock Assessment Review Workshop, the Council's Standing and Special Reef Fish Scientific and Statistical Committee (SSC), (which will be convened as part of the Stock Assessment Review Workshop), the Socioeconomic Panel (SEP), and the Reef Fish Advisory Panel (AP). The reports and recommendations of these groups will then be presented to the Gulf Council, which may set year a 2004 total allowable catch (TAC) as well as other management measures for the Gulf of Mexico exclusive economic zone component of the yellowtail snapper stock.

A copy of the agenda for the RFSAP portion of the meeting can be obtained by calling 813-228-2815.

Although other issues not on the agenda may come before the RFSAP for discussion, in accordance with the Magnuson-Stevens Fishery Conservation and Management Act, those issues may not be the subject of formal action during this meeting. Actions of the RFSAP will be restricted to those issues specifically identified in the agenda listed as available by this notice.

The RFSAP meeting is open to the public and is physically accessible to people with disabilities. Requests for sign language interpretation or other auxiliary aids should be directed to the Council office (see ADDRESSES)by June 30, 2003.

Dated: May 15, 2003.
Richard W. Surdi,
Acting Director, Office of Sustainable Fisheries, National Marine Fisheries Service.

[FR Doc. 03-12741 Filed 5-20-03; 8:45 am]

BILLING CODE 3510-22-S